DEPARTMENT OF STATE

[Delegation of Authority No. 386]

Delegation by the Deputy Secretary of State to the Under Secretary for Management of the Authority To Waive Inclusion of Sensitive Compartmented Information Facilities in United States Diplomatic Facilities in the Russian Federation and Adjacent Countries

By virtue of the authority vested in the Secretary of State by section 1 of the State Department Basic Authorities Act (22 U.S.C. 2651a) and the Intelligence Authorization Act for Fiscal Year 2015 (P.L. 113-293) (the Act), and delegated to me by Delegation of Authority No. 245-1, dated February 13, 2009, I hereby delegate to the Under Secretary of State for Management, to the extent authorized by law, the waiver authority vested in the Secretary of State by section 314(b) of the Act.

The Under Secretary for Management may re-delegate this authority, to the extent authorized by law.

Notwithstanding this delegation of authority, the Secretary of State, the Deputy Secretary, and the Deputy Secretary for Management and Resources may at any time exercise the functions herein delegated.

This document will be published in the Federal Register.

Dated: May 28, 2015.
Heather Higginbottom,
Deputy Secretary of State.

[FR Doc. 2015-17448 Filed 7-15-15; 8:45 am]

BILLING CODE P